DEPARTMENT OF COMMERCE

International Trade Administration

19 CFR Part 361

[Docket No. 230113-0008]

RIN 0625-XC049

Request for Information on Aluminum Import Monitoring and Analysis System

AGENCY: Enforcement and Compliance, International Trade Administration, Department of Commerce.

ACTION: Notification of Request for Information (RFI).

SUMMARY: On May 5, 2021, the U.S. Department of Commerce (Commerce) announced that it would be lifting the stay of the final rule entitled “Aluminum Import Monitoring and Analysis System”, effective June 28, 2021. In this document, as well as in the final rule, Commerce stated that because the Aluminum Import Monitoring and Analysis (AIM) system was a new program, Commerce would seek additional comment from the public on potential improvements or changes to the system in a subsequent document after the AIM system was in place. Now that the AIM system is in place, Commerce is issuing this RFI to provide parties with the opportunity to provide further comments on the system.

DATES: Interested persons and organizations are invited to submit comments on or before March 1, 2023.

ADDRESSES: To respond to this RFI, please submit electronic public comments via the Federal e-Rulemaking Portal.

1. Go to www.regulations.gov and enter ITA-2023-0001 in the search field;

2. Click the “Comment Now!” icon, complete the required fields; and

3. Enter or attach your comments.

Comments sent by any other method, to any other address or individual, or received after the end of the comment period, may not be considered. All comments responding to this document will be a matter of public record and will generally be available on the Federal e-Rulemaking Portal at http://www.regulations.gov. Commerce will not accept comments accompanied by a request that part or all the material be treated confidentially because of its business proprietary nature or for any other reason. Therefore, do not submit confidential business information or otherwise sensitive or protected information.

FOR FURTHER INFORMATION CONTACT: Julie Al-Saadawi at (202) 482-1930 or Shelby Anderson at (202) 482-1411.

SUPPLEMENTARY INFORMATION:

Background on Establishment of AIM System

Under the Aluminum Import Monitoring and Analysis (AIM) system, Commerce maintains an aluminum import licensing program and a public AIM monitor, available through the AIM system website. Additionally, importers, custom brokers, or their agents are required to apply for and obtain an import license for each entry of covered aluminum products through the AIM system website. To obtain an import license, each applicant must identify, among other requirements, the country or countries where the largest and second largest volume of primary aluminum used in the manufacture of the imported aluminum product was smelted and the country where the aluminum product was most recently cast.

On December 23, 2020, Commerce published the final rule adopting regulations establishing the AIM system in 19 CFR part 361 (85 FR 83804; December 23, 2020). The original effective date for the final rule and part 361 was January 25, 2021, requiring license numbers to be reported to U.S. Customs and Border Protection (CBP) on entry summary documentation, or electronic equivalent, for covered aluminum products on or after this date. On January 4, 2021, Commerce launched the AIM system website and allowed for importers, customs brokers and their agents to begin applying for and obtaining their import licenses.

However, on January 27, 2021, Commerce published a notification that it was delaying the effective date of the final rule and part 361 until March 29, 2021 (86 FR 7237). In that notification, Commerce also opened a 30-day comment period to solicit public comment on all aspects of the final rule, the AIM system, and part 361. The comment period closed on February 26, 2021. On April 1, 2021, Commerce published an additional notification stating it was delaying compliance with most aspects of the final rule and part 361 by an additional 90 days, by staying part 361 (86 FR 17058). In that notification, Commerce explained that the delay would allow Commerce time to finalize the license application system and to provide both the public and CBP with sufficient advance notice of the new compliance date. Commerce also explained that the delay would allow Commerce to consider and respond, as appropriate, to the comments received during the January 27, 2021, to February 26, 2021, comment period.

On May 5, 2021, Commerce published another notification, announcing that it would be lifting the stay of the final rule on June 28, 2021, and addressing the comments that it received during the most recent comment period (86 FR 27513). Accordingly, as of June 28, 2021, Commerce required compliance with most aspects of the final rule and part 361. Additionally, consistent with the final rule and the May 5, 2021 notification, Commerce seeks comments from the public on potential improvements or changes to the AIM system in a subsequent document after the AIM system is in place.

Licensing Requirements

Consistent with the May 5, 2021 notification, Commerce began requiring importers to submit aluminum import license numbers to CBP for all entries of covered aluminum products on June 28, 2021.¹ Any importer, importing company, customs broker or importer's agent with a U.S. street address (as required for account creation) can register and gain access to the automatic aluminum import license issuance system. Once all necessary license information has been provided, licenses are issued automatically and instantaneously.

¹ Covered products are identified by HTS code on the AIM website at https://www.trade.gov/aluminum-products-hts-codes.

Most of the information required for license applications is separately required by CBP as part of the Form 7501, Customs Entry Summary. For certain fields, unique supply chain information was also required for the first time under the AIM system. Specifically, as described in the final rule and as stated in 19 CFR 361.103(c)(1)(xiii), (xiv), and (xv), among other requirements, Commerce requires the applicant to provide the following information: (1) the country where the largest volume of primary aluminum used in the manufacture of the imported aluminum product was smelted (referred to as “country of smelt for the largest volume of primary aluminum” or “country of smelt” as shorthand); (2) the country where the second largest volume of primary aluminum used in the manufacture of the imported aluminum product was smelted (referred to as “country of smelt for the second largest volume of primary aluminum” or “second country of smelt” as shorthand); and (3) the country where the aluminum used in the imported aluminum product was most recently cast (referred to as “country of most recent cast” for shorthand). These fields are further described under 19 CFR 361.103(c)(3).

Section 361.103(c)(3)(i)(A) defines the field for the country of smelt for the largest volume of primary aluminum as the country where the largest volume of new aluminum metal is produced from alumina (or aluminum oxide) by the electrolytic Hall-Héroult process. Recognizing that importers may have some initial difficulties in securing this information, 19 CFR 361.103(c)(3)(i)(C) allowed filers to state “unknown” for this field on the license application on a temporary basis through June 28, 2022. Similar to the country of smelt for the largest volume of primary aluminum field, 19 CFR 361.103(c)(3)(ii)(A) defines the field for the country of smelt for the second largest volume of primary aluminum as the country where the second largest volume of new aluminum metal is produced from alumina (or aluminum oxide) by the electrolytic Hall-Héroult process. Section 361.103(c)(3)(ii)(C) also allowed filers to state “unknown” in this field on a temporary basis through June 28, 2022. Effective June 29, 2022, filers may no longer state “unknown” for these fields.

AIM Monitors

Commerce currently publishes: (1) the U.S. Aluminum Import Monitor, which combines data from Census and import licenses and is updated weekly; (2) the Country of Most Recent Cast Dashboard with information on the country where imported aluminum products were most recently cast; (3) the Country of Smelt Dashboard with information on the country where the primary aluminum was smelted; and (4) the Global Aluminum Trade Monitor.

Currently, the AIM licensing system receives approximately 750 licenses per day. These licenses are reviewed, aggregated and published in the public AIM monitor on a weekly basis. This monitor allows for near real-time monitoring of aluminum imports. The import monitoring system on the public AIM system website reports certain information including country of origin, country of smelt, country of most recent cast, relevant aluminum product grouping, etc., and includes import quantity (metric tons), customs value (U.S. dollar, USD), and average unit value (USD/metric ton). Prior to releasing new data, Commerce engages in an extensive review of all new licenses to identify potentially erroneous applications and contacts applicants with questions. Commerce has also engaged in extensive industry outreach to educate applicants on the required licensing fields, particularly regarding the country of smelt and country of most recent cast fields, to ensure accurate data quality in the AIM monitors.

The AIM monitors are collectively one of the most frequently visited parts of the International Trade Administration website, typically being viewed over 5,000 times per week.

Request for Information

Now that 19 CFR part 361 has been fully in effect since June 29, 2022, and the Country of Smelt Dashboard was released in September 2022, Commerce is seeking additional comment from the public on potential improvements or changes to the system. Parties may also provide further comment on any issue discussed in the final rule, the May 5, 2021, notification or any topic related to the AIM system. Responses to this RFI will inform Commerce's policies and procedures related to the AIM system moving forward.

Dated: January 20, 2023.
Lisa W. Wang,
Assistant Secretary for Enforcement and Compliance.

[FR Doc. 2023-01464 Filed 1-27-23; 8:45 am]

BILLING CODE 3510-DS-P